DEPARTMENT OF TRANSPORTATION

Federal Highway Administration

Environmental Impact Statement: Lake County, IL

AGENCY: Federal Highway Administration (FHWA), DOT.

ACTION: Notice of Intent.

SUMMARY: The FHWA is issuing this notice to advise the public that an environmental impact statement will not be prepared for the Lake County, Illinois, Transportation Improvement Project.

FOR FURTHER INFORMATION CONTACT: Norman R. Stoner, P.E., Division Administrator, Federal Highway Administration, 3250 Executive Park Drive, Springfield, Illinois 62703, Phone: (217) 492-4600. Diane O'Keefe, P.E., Region One Engineer, District 1, Illinois Department of Transportation, 201 West Center Court, Schaumburg, Illinois 60196, Phone: (847) 705-4201.

SUPPLEMENTARY INFORMATION: The FHWA, in cooperation with the illinois Department of Transportation, issued a notice of intent to prepare an environmental impact statement (EIS) on a proposal to identify a system of strategic roadway, rail, and bus improvements as well as a package of transportation management strategies necessary to help address the key congestion and mobility problems in Lake County, Illinois. A Notice of Availability of the Draft EIS was published in the Federal Register on September 21, 2001 (Volume 66, Number 184). Three alternatives were presented in detail in the Draft EIS including the No Action Alternative, Illinois 53 Freeway/Tollway Alternative and the Illinois 83/U.S. 45 with U.S. 12 Alternative.

Due to public opposition and lack of regional support, this project has been put on hold indefinitely. At this time there are no plans to prepare a Final EIS for this project. Comments or questions concerning this notice should be directed to FHWA or the Illinois Department of Transportation at the addresses provided above.

Issued on: October 16, 2008.
Norman R. Stoner,
Division Administrator, Springfield, Illinois.

[FR Doc. E8-25125 Filed 10-22-08; 8:45 am]

BILLING CODE 4910-22-M